DEPARTMENT OF ENERGY

Federal Energy Regulatory Commission

Notice of Temporary Variance Request and Solicitation of Comments, Motions To Intervene, and Protests

May 15, 2002.

Take notice that the following application has been filed with the Commission and is available for public inspection:

a. Application Type: Request for a Reservoir Drawdown at Centralia Dam.

b. Project No: 2255-055.

c. Date Filed: March 19, 2002.

d. Applicant: Domtar Wisconsin Dam Corp.

e. Name of Project: Centralia Dam Project.

f. Location: The project is located on the Wisconsin River, in Wood County, Wisconsin.

g. Filed Pursuant to: 18 CFR 4.200.

h. Applicant Contact: Mr. David K. Reinke, Domtar Industries Inc., 100 Wisconsin River Drive, Port Edwards, WI 54469, phone 715-887-5111.

i. FERC Contact: Any questions on this notice should be addressed to Mr. Robert Fletcher at (202) 219-1206, or e-mail address: robert.fletcher@ferc.gov.

j. Deadline for Filing Comments and/or Motions: June 17, 2002.

All documents (original and seven copies) should be filed with: Magalie R. Salas, Secretary, Federal Energy Regulatory Commission, 888 First Street, NE., Washington DC 20426. Please include the project number (P-2255-055) on any comments or motions filed.

k. Description of Request: The licensee is requesting to drawdown the Centralia Dam reservoir on the Wisconsin River for the purpose of performing maintenance and structural repairs below the waterline on the forebay and intake structure located upstream of the powerhouse dam, guardlock structure, and gated and flashboard spillways. The licensee will begin the drawdown on July 5, 2002 and anticipates the reservoir being refilled by November 30, 2002. The licensee will publish a notice in the local paper the day prior to the drawdown, start drawing the impoundment down at a rate of 2-inches per hour (in no case to exceed 6-inches per hour) down to a 10-foot lowering of the headwater pool, and complete a biological survey for stranded aquatic life. The licensee has consulted with the U.S. Fish and Wildlife Service, Wisconsin Department of Natural Resources, and the Wisconsin State Historical Society.

l. Locations of the Application: A copy of the application is available for inspection and reproduction at the Commission's Public Reference Room, located at 888 First Street, NE, Room 2A, Washington, DC 20426, or by calling (202) 208-1371. This filing may also be viewed on the web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

Linwood A. Watson, Jr.,
Deputy Secretary.

[FR Doc. 02-12746 Filed 5-21-02; 8:45 am]

BILLING CODE 6717-01-P